NATIONAL AERONAUTICS AND SPACE ADMINISTRATION

[Notice: 01-037]

Title VI of the Civil Rights Act of 1964, as Amended: Policy Guidance on the Prohibition Against National Origin Discrimination As It Affects Persons With Limited English Proficiency

AGENCY: National Aeronautics and Space Administration (NASA).

ACTION: Notice of policy guidance with request for comments.

SUMMARY: Title VI of the Civil Rights Act of 1964, 42 U.S.C. 2000d-2000d-42, as amended, and NASA's implementing regulation at 14 CFR part 1250 provide that no person shall be subjected to discrimination on the basis of race, color, or national origin under any program or activity that receives Federal financial assistance. NASA is publishing policy guidance on Title VI's prohibition against national origin discrimination as it affects Limited English Proficient (LEP) persons.

DATES: This guidance is effective immediately. Comments must be received by May 14, 2001. NASA will review all comments and will determine what modifications to the policy guidance, if any, are necessary.

ADDRESSES: Interested persons should submit written comments to Mr. George E. Reese, Associate Administrator for Equal Opportunity Programs, Code E, NASA Headquarters, 300 E Street, SW, Room 4W31, Washington, DC 20546.

FOR FURTHER INFORMATION CONTACT: Mr. Frederick Dalton, 202-358-0958, or TDD: 202-358-3748. Arrangements to receive the policy in an alternative format may be made by contacting Mr. Frederick J. Dalton.

SUPPLEMENTARY INFORMATION: The purpose of this policy guidance is to clarify the responsibilities of institutions and/or entities that receive financial assistance from NASA, and assist them in fulfilling their responsibilities to LEP persons, pursuant to Title VI of the Civil Rights Act of 1964. The policy guidance emphasizes that in order to avoid discrimination against LEP persons on grounds of national origin, recipients of NASA financial assistance must take adequate steps to ensure that people who are not proficient in English can effectively participate in and benefit from the recipient's programs and activities. Therefore, LEP persons should expect to receive the language assistance necessary to afford them meaningful access to the recipients' programs and activities, free of charge.

Background

English is the predominant language of the United States. According to the 1990 Census, English is spoken by 95% of its residents. Of those U.S. residents who speak languages other than English at home, the 1990 Census reports that only 57% above the age of four speak English “well to very well.”

The United States is home to millions of individuals who are LEP. That is, they cannot speak, read, write or understand the English language at a level that permits them to benefit from NASA's financially assisted programs and activities. Accommodation of LEP individuals through the provision of effective language assistance will allow NASA to “provide for the widest practicable and appropriate dissemination of information concerning its activities and the results thereof” (Section 203(a)(3) of the National Aeronautics and Space Act of 1958, as amended, Public Law 85-568, July 29, 1958), and ensure compliance with Title VI of the Civil Rights Act of 1964.

This policy guidance is consistent with Department of Justice (DOJ) LEP Guidance, which specifies that recipients have an obligation pursuant to Title VI's prohibition against national origin discrimination to provide oral and written language assistance to LEP persons, free of charge.¹

¹ The DOJ LEP Guidance was issued August 11, 2000. (65 FR 50123, August 16, 2000.)

Authority

Statute and Regulations

Section 601 of the Civil Rights Act of 1964, 42 U.S.C. 2000d, states: “No person in the United States shall, on the ground of race, color, or national origin, be excluded from participation in, be denied the benefits of, or be subjected to discrimination under any program or activity receiving Federal financial assistance.”

NASA Regulations implementing Title VI, provide in part at 14 CFR 1250.103-2 that:

(a) A recipient under any program to which this part applies may not, directly or through contractual or other arrangements, on ground of race, color, or national origin:

(1) Deny an individual any service, financial aid, or other benefit provided under the program;

(2) Provide any service, financial aid, or other benefit to an individual which is different, or is provided in a different manner, from that provided to others under the program;

(3) In determining the site or location of facilities, a recipient or applicant may not make selections with the purpose or effect of excluding individuals from, denying them the benefits of, or subjecting them to discrimination under any program to which this regulation applies, on the grounds of race, color, or national origin; or with the purpose or effect of defeating or substantially impairing the accomplishment of the objectives of the Act or this regulation.

(4) Subject an individual to segregation or separate treatment in any matter related to his receipt of any service, financial aid, or other benefit under the program;

(5) Restrict an individual in any way in the enjoyment of any advantage or privilege enjoyed by others receiving any service, financial aid, or other benefit under the program;

(6) Treat an individual differently from others in determining whether he satisfies any admission, enrollment, quota, eligibility, membership or other requirement or condition which individuals must meet in order to be provided any service, financial aid, or other benefit provided under the program;

(7) Deny an individual an opportunity to participate in the program through the provision of services or otherwise or afford him an opportunity to do so which is different from that afforded others under the program (including the opportunity to participate in the program as an employee but only to the extent set forth in § 1250.103-3).

The Title VI regulations prohibit both intentional discrimination and policies and practices that appear neutral but have a discriminatory effect. Thus, a recipient's policies or practices regarding the provision of benefits and services to LEP persons need not be intentional to be discriminatory, but may constitute a violation of Title VI if they have an adverse effect on the ability to meaningfully access programs and services. Accordingly, recipients must examine their policies and practices to determine whether they adversely affect LEP persons. This policy guidance provides a legal framework to assist recipients in conducting such assessments.

Guidance

(1) Who is Covered

All entities that receive financial assistance from NASA, either directly or indirectly, through a Research Grant, Education Grant, Training Grant, Facilities Grant, Cooperative Agreement, under the authority of the National Aeronautics and Space Act of 1958 (Space Act), as amended, 42 U.S.C. 2451 et seq., and/or the National Space Grant College and Fellowship Act, 42 U.S.C. 2486-24861, are covered by this guidance. In addition, entities with whom NASA enters into other agreements under the Space Act in order to meet its wide-ranging mission and program requirements and objectives are also covered by this policy guidance. Recipients may include: any state or local agency, private institution or organization, or any public or private individual to whom Federal assistance is extended, directly or through another recipient including any successor, assign, or transferee thereof.

The term “Federal financial assistance” to which Title VI applies includes, but is not limited to, grants and loans of Federal funds, grants or donations of Federal property, and details of Federal personnel. Furthermore, it includes the sale or lease of Federal property or any interest in such property without consideration or at a nominal consideration, at a consideration which is reduced for the purpose of assisting the recipient, or in recognition of the public interest to be served by such sale or lease to the recipient. Finally, it includes any Federal agreement, arrangement, or other contract that has as one of its purposes the provision of assistance.

In the Civil Rights Restoration Act of 1987 (CRRA), Congress defined the scope of a program or activity covered by Title VI. The CRRA provides that, in most cases, when a recipient receives Federal financial assistance for a particular program or activity, all operations of the recipient are covered by Title VI, not just the part of the program that uses the Federal assistance. Thus, all parts of the recipient's operations would be covered by Title VI, even if the Federal assistance is used by only one part.

(2) Basic Requirements Under Executive Order 13166 and Title VI

Executive Order 13166 requires Federal departments and agencies extending financial assistance to develop and make available guidance on how recipients should, consistent with the DOJ LEP Guidance and Title VI, assess and address the needs of otherwise eligible LEP persons seeking access to Federally assisted programs and activities. The DOJ LEP Guidance, in turn, provides general guidance on how recipients can ensure compliance with their Title VI obligation to “take reasonable steps to ensure ‘meaningful’ access to the information and services they provide.” (DOJ LEP Guidance, 65 FR 50124).

The DOJ LEP Guidance goes on to provide that [w]hat constitutes reasonable steps to ensure meaningful access will be contingent on a number of factors. At a minimum, a recipient shall implement a balancing analysis considering the following four factors: (a) The number or proportion of LEP persons in the eligible service population; (b) the frequency with which LEP individuals come in contact with the program; (c) the importance of the service provided by the program, and; (d) the resources available to the recipient.

The recipient shall make its assessment of the language assistance needed to ensure meaningful access on a case by case basis, and will have considerable flexibility in determining precisely how to fulfill this obligation. NASA will focus on the end result—whether LEP persons have meaningful access to the recipient's programs and/or activities.

The key to providing meaningful access for LEP persons is to ensure that the recipient and LEP person can communicate effectively. The steps taken by a recipient must ensure that the LEP person is given adequate information, understands the purpose of the programs and/or activities available, and is not prevented by language barriers from deriving the benefits of such programs and/or activities.

(3) Ensuring Meaningful Access to LEP Persons

Introduction—The Four Keys to Title VI Compliance in the LEP Context

NASA recipients have considerable flexibility in providing language assistance to LEP persons. Usually, effective programs of language assistance have the following four elements:

(a) Assessment—The recipient conducts a thorough assessment of the language needs of the program and/or activity's target population. This assessment shall consider, at a minimum, the following four factors: (a) The number or proportion of LEP persons in the eligible service population; (b) the frequency with which LEP individuals come in contact with the program; (c) the importance of the service provided by the program; and, (d) the resources available to the recipient.

(b) Development of Comprehensive Written Policy on Language Access—A recipient can ensure effective communication by developing and implementing a comprehensive written language assistance program that includes policies and procedures to ensure free language assistance, periodic training of staff, the monitoring of the program, and the translation of written materials in certain circumstances.

(c) Training of Staff—The recipient takes steps to ensure that staff understands the policy and is capable of carrying it out. A vital element in ensuring that its policies are followed is a recipient's dissemination of its policy to all employees likely to have contact with LEP persons, and periodic training of these employees. Effective training ensures employees are knowledgeable and aware of LEP policies and procedures, are trained to work effectively with in-person and telephone interpreters, and understand the dynamics of interpretation between clients and providers. It is important that this training be part of an orientation for new employees and that all employees in potential LEP community contact positions be properly trained. Effective training is one means of ensuring that there is not a gap between a recipient's written policies and procedures, and the actual practices of employees who are in the front lines interacting with LEP persons.

(d) Monitoring—The recipient conducts regular oversight of the language assistance program to ensure that LEP persons meaningfully access the program(s). It is important for a recipient to frequently monitor its language assistance program to assess the current LEP demography where its programs and/or activities are conducted; whether existing assistance is meeting the needs of such persons; whether staff is knowledgeable about policies and procedures and how to implement them; and, whether sources of and arrangements for assistance are still current and viable. One element of such an assessment is for a recipient to seek feedback from the LEP community and advocates. Compliance with the Title VI language assistance obligations is most likely when a recipient continuously monitors its program, makes modifications where necessary, and periodically trains employees in implementation of the policies and procedures.

(4) Types of Language Assistance

Oral Language Interpretation—The following are language assistance options that can be implemented in order to meet the needs of LEP population(s):

(a) Staff Interpreters—Paid staff interpreters are especially appropriate where there is a frequent and/or regular need for interpreting services. These persons must be competent and readily available.

(b) Contract Interpreters—The use of contract interpreters may be an option for recipients that have an infrequent need for interpreting services, have less common LEP language groups in their programs and activities, or need to supplement their in-house capabilities on an as-needed basis. Such contract interpreters should be readily available and competent.

(c) Community Volunteers—Use of community volunteers may provide recipients with a cost-effective method for providing interpreter services. However, to use community volunteers effectively, recipients must ensure that formal arrangements for interpreting services are made with community organizations so that these organizations are not subjected to ad hoc requests for assistance. In addition, recipients must ensure that these volunteers are competent as interpreters. Additional language assistance must be provided where competent volunteers are not readily available.

Example 1— NASA provides funds to a number of public schools in urban areas. The funds, in the form of grants, are utilized to provide selected students extended-day activities, Saturday activities, and field experiences focusing on the acquisition of knowledge and development of skills in science, mathematics, and application of technology; career opportunities; and exposure to role models in the aforementioned fields. The target population is 6th, 7th, and 8th graders.

A review of the target population reveals that fifteen percent of the target population is enrolled in English as a Second Language (ESL) classes, and that another seven percent is enrolled in the Bilingual Education (BE) program. The first languages for the ESL and BE 6th, 7th, and 8th grade population are Spanish and French. After determining the demographic context of the target audience, and the importance of the benefits that could be derived by the participants, the recipient decides to translate the brochure announcing the program and outlining application requirements into Spanish and French. The translations are done by BE educators fluent in both languages. The translated brochures are sent home with the students in order to inform the parents (or guardians) of the program, its objectives and benefits. On the program brochures, there is a note advising the parents (or guardians) that language assistance can be provided at no cost to LEP students selected to participate in the program.

Given the steps taken to inform the target population about the program, and to facilitate identification of potential participants needing alternative language services, the recipient would be considered to have taken reasonable steps to comply with its LEP obligations under Title VI of the Civil Rights Act of 1964, as amended, during the announcement stage of the program.

Example 2— ABC Company is located in Los Angeles, California, an area with a significant population of Asian language speakers. ABC Company (the recipient) receives NASA financial assistance in its research and development programs. The recipient publishes brochures and other written materials available to the public electronically and in hard-copy format. The recipient also conducts community outreach programs, including education and training programs, with local elementary and secondary schools. In order to achieve full compliance with Title VI requirements, the recipient should review all of its programs affecting the public to determine whether it is providing meaningful access to LEP persons. The recipient should focus its review on such issues as to whether to provide oral language interpreters and how to ensure that the written materials are available in languages other than English. Partnerships with community organizations and educational institutions can be forged in order to address the LEP needs of the community and ensure that the recipient's programs and activities remain accessible and not restricted because of language barriers.

Translation of Written Materials—An effective language assistance program ensures that written materials routinely provided in English to the public are available in regularly encountered languages other than English. It is particularly important to ensure that vital documents, such as applications; materials containing important information regarding participation in a program; notices pertaining to the reduction, denial or termination of a program and/or activity; notices advising LEP persons of the availability of free language assistance; and other outreach materials be translated into the non-English language of each identified eligible LEP group likely to be directly affected by a recipient's program.

One way for a recipient to know with greater certainty that it will be found in compliance with its obligations to provide written translations in languages other than English is for the recipient to meet “Safe Harbor” standards. A recipient that provides written translations under the following circumstances will be considered by NASA to be in compliance with its obligation under Title VI regarding written translations.²

² The “Safe Harbor” provisions are not intended to establish numerical thresholds for the translation of written materials by recipients. The numbers are based on the U.S. Department of Health and Human Services' (DHHS) experience in enforcing Title VI and are to be used as a point of reference in implementing specific steps to ensure that LEP is not a barrier to program participation.

(i) The recipient provides translated written materials, including vital documents, for each eligible LEP language group that constitutes 10 percent of the population of persons likely to be directly effected by the recipient's program., or 3,000 persons, whichever is less;

(ii) For LEP language groups that do not fall within paragraph (i) above, but constitute 5 percent or 1,000 persons, whichever is less, of the population of persons likely to be directly effected, the recipient ensures that, at a minimum, vital documents are translated into the appropriate non-English language(s) of such LEP persons. Translation of other documents, if needed, can be provided orally.

(iii) A recipient with fewer than 100 persons in a language group likely to be directly effected by the recipient's program, does not translate written materials but provides written notice in the primary language of the LEP language group of the right to receive competent oral translation of written materials.

(5) Promising Practices

In meeting the needs of LEP persons, some recipients have found unique ways of providing interpreter services and reaching out to the LEP community. Examples of promising practices include the following:

(a) Language Banks—In several parts of the country, both urban and rural, community organizations have created community language banks that train, hire, and dispatch competent interpreters to participating organizations, reducing the need to have on-staff interpreters for low demand languages. These language banks are frequently nonprofit and charge reasonable rates. This approach is particularly appropriate where there is a scarcity of language services, or where there is a large variety of language needs.

(b) Language Support Office—A State social services agency has established an “Office for Language Interpreter Services and Translation.” This office tests and certifies all in-house and contract interpreters, provides agency-wide support for translation of forms, client mailings, publications and other written materials into non-English languages, and monitors the policies of the agency and its vendors that affect LEP persons.

(c) Use of Technology—Some recipients use their internet and/or intranet capabilities to post translated documents online. These translated documents can be accessed as needed.

(d) Telephone Information Lines—Recipients have established telephone information lines in languages spoken by frequently encountered language groups to instruct callers, in the non-English languages, on how to leave a recorded message that will be answered by someone who speaks the caller's language.

(e) Signage and Other Outreach—Other recipient/covered entities have provided information about programs and/or activities, and the availability of free language assistance, in appropriate languages by: (i) Posting signs and placards with this information in public places; (ii) putting notices in newspapers, and on radio and television stations that serve LEP groups; (iii) placing flyers and signs in the offices of community organizations that serve large populations of LEP persons; and (iv) establishing information lines in appropriate languages.

(6) Compliance and Enforcement

Failure to implement any of the measures mentioned in this guidance does not mean noncompliance with Title VI, and NASA, or its designee, will review the totality of the circumstances in each case. NASA's designee for conducting complaint investigations and compliance reviews in elementary and secondary schools, and institutions of higher education, is the U.S. Department of Education under the Delegation Agreement published at 52 FR 43385 (Nov. 12, 1987).

The Title VI regulations provide that NASA's Associate Administrator for Equal Opportunity Programs, the Agency's Principal Compliance Officer (PCO), or his/her designee, will investigate whenever NASA receives a complaint, report or other information that alleges or indicates possible noncompliance with Title VI. If the investigation results in a finding of compliance, the PCO, or his/her designee, will inform the recipient in writing of this determination, including the basis for the determination. If the investigation results in a finding of noncompliance, the PCO or his/her designee, will so inform the recipient and the matter will be resolved through informal means, whenever possible. If the matter cannot be resolved, compliance may be effected by the suspension or termination of or refusal to grant or to continue Federal financial assistance or by any other means authorized by law.

Recipients have considerable flexibility in determining how to comply with their legal obligation in the LEP setting, and are not required to use all of the suggested methods and options mentioned in these guidelines. However, recipients must establish and implement policies and procedures for providing language assistance sufficient to fulfill their Title VI responsibilities and provide LEP persons with meaningful access to services.

NASA will enforce Title VI as it applies to recipients' responsibilities to LEP persons through the procedures provided for in its Title VI regulations. These procedures include complaint investigations, compliance reviews, efforts to secure voluntary compliance, and technical assistance.

Under 14 CFR 1250.107, NASA has a legal obligation to seek voluntary compliance in resolving cases and cannot seek the termination of funds until it has engaged in voluntary compliance efforts and has determined that compliance cannot be secured voluntarily. NASA will engage in voluntary compliance efforts, and will provide technical assistance to recipients at all stages of its investigation. During these efforts to secure voluntary compliance, NASA will propose reasonable timetables for achieving compliance and will consult with and assist recipients in exploring cost effective ways of coming into compliance, by sharing information on potential community resources, by increasing awareness of emerging technologies, and by sharing information on how other recipients have addressed the language needs of diverse populations.

Executive Order 13166 requires that each Federal department or agency extending Federal financial assistance subject to Title VI issue separate guidance implementing uniform Title VI compliance standards with respect to LEP persons. Where recipients of Federal financial assistance from NASA also receive assistance from one or more other Federal departments or agencies, there is no obligation to conduct and document separate but identical analyses and language assistance plans for NASA. Therefore, in discharging its compliance and enforcement obligations under Title VI, NASA may rely on analyses performed and plans developed in response to similar detailed LEP guidance issued by other Federal agencies. In determining a recipient's compliance with Title VI, NASA's primary concern is to ensure that the recipient's policies and procedures overcome barriers resulting from language differences that would deny LEP persons a meaningful opportunity to participate in and access programs and activities, and their respective benefits. A recipient's appropriate use of the methods and options discussed in this guidance will be viewed by NASA as evidence of a recipient's good faith effort to voluntarily comply with its Title VI obligations.

(7) English-Only Provisions

State and local laws may provide additional obligations to serve LEP individuals, but such laws cannot compel recipients of Federal financial assistance to violate Title VI. For instance, given our constitutional structure, state or local “English-only” laws do not relieve a recipient of Federal financial assistance from its responsibilities under Federal anti-discrimination laws. Entities in states and localities with “English-only” laws are not required to accept Federal funding—but if they do, they must comply with Title VI, including its prohibition against national origin discrimination by recipients of Federal assistance. Failure to make Federally assisted programs and activities accessible to individuals who are LEP will, in certain circumstances, be found to be in violation of Title VI.

(8) Technical Assistance

NASA's Office of Equal Opportunity Programs (OEOP) will provide technical assistance to recipients, and will be available to provide such assistance to any recipient seeking to ensure that it operates an effective language assistance program. In addition, during its investigative process, NASA is available to provide technical assistance to enable recipients to come into voluntary compliance.

(9) Attachment

Appendix A is a summary, in question and answer format, of a number of the critical elements of this guidance. It is intended to assist recipients in understanding their obligations under Title VI to ensure meaningful access to LEP persons.

Appendix A

Questions and Answers Regarding NASA's Policy Guidance on the Title VI Prohibition Against National Origin Discrimination as it Affects Persons with Limited English

Proficiency

1. Q. What is the purpose of the guidance on language access released by NASA?

A. The purpose of the guidance is two-fold: first, to clarify the responsibilities of entities who receive Federal financial assistance from NASA, and assist them in fulfilling their responsibilities to Limited English Proficient (LEP) persons, pursuant to Title VI of the Civil Rights Act of 1964, as amended (Title VI); and second, to clarify to members of the public that recipients of Federal financial assistance from NASA must ensure that LEP persons have meaningful access to their programs and activities.

2. Q. What does the policy guidance do?

A. The policy guidance does the following:

• Reiterates the principles of Title VI with respect to LEP persons.

• Discusses the policies, procedures and other steps that recipients can take to ensure meaningful access to their program by LEP persons.

• Clarifies that failure to take one or more of these steps does not necessarily mean noncompliance with Title VI.

• Provides that NASA will determine compliance on a case by case basis, and that such assessments will take into account the size of the recipient, the size of the LEP population, the nature of the program, the resources available, and the frequency of use by LEP persons.

• Provides that recipients with limited resources will have a great deal of flexibility in achieving compliance.

• Provides that NASA will extend technical assistance to recipients, as needed.

3. Q. Who should follow the guidance?

A. Covered entities include any State, political subdivision of any State, or instrumentality of any State or political subdivision, any public or private agency, institution, or organization, or other entity, or any individual to whom Federal financial assistance is extended, directly or through another recipient, including any successor, assign, or transferee thereof.

4. Q. How does the guidance affect small recipients?

A. The key to providing meaningful access for LEP persons is to ensure that the objective and content of the program can be communicated to the LEP person and the LEP person is able to understand the benefits available and is able to receive those benefits in a timely manner. Small recipients will have considerable flexibility in determining precisely how to fulfill their obligations to ensure meaningful access for persons with limited English proficiency. NASA will assess compliance on a case by case basis and will take into account the size of the recipient, the size of the LEP population that the program will impact, the nature of the program, the objectives of the program, the total resources available to the recipient, the frequency with which languages other than English are encountered and the frequency with which LEP persons come into contact with the program. There is no “one size fits all” solution for Title VI compliance with respect to LEP persons. In other words, NASA will focus on whether LEP persons have access to the programs provided by the recipient. NASA will be available to provide technical assistance to any recipient seeking to ensure that s/he operates an effective language assistance program.

5. Q. The guidance identifies some specific circumstances under which NASA will consider a program to be in compliance with its obligation under Title VI to provide written materials in languages other than English. Does this mean that a recipient will be considered out of compliance with Title VI if its program does not fall within these circumstances?

A. No. The circumstances outlined in the guidance are intended to provide “Safe Harbor” for recipients who desire greater certainty with respect to their obligations to provide written translations. Thus, a recipient whose policies and practices fall within these circumstances will generally be found in compliance with Title VI. However, the failure to fall within the “safe harbors” outlined in the guidelines does not mean that a recipient is not in compliance with Title VI. In such circumstances, NASA will review the totality of circumstances to determine the precise nature of a recipient's obligation to provide written materials in languages other than English. If translation of a certain document or set of documents would be so financially burdensome as to defeat the legitimate objectives of its program, or if there is an alternative means of ensuring that LEP persons have meaningful access to the information provided in the document (such as timely, effective oral interpretation of vital documents), NASA will likely not find the translation necessary for compliance with Title VI.

6. Q. The guidance makes reference to “vital documents” and notes that, in certain circumstances, a recipient/covered entity may have to translate such documents into other languages. What is a vital document?

A. Given the programs and activities receiving NASA financial assistance, we do not attempt to identify vital documents and information with specificity in each program area. Rather, written material should be considered vital if it contains information that is critical for accessing the recipient's programs and activities, and their respective benefits. Thus, vital documents include, but are not limited to, announcements of programs and activities, applications to participate in programs and activities, letters or notices that require a response from the potential program participant, and documents that advise of free language assistance. NASA will also collaborate with its recipients to assist in determining which documents are deemed to be vital within a particular program.

7. Q. Will recipients have to translate large documents?

A. Not necessarily. As part of its overall language assistance program, a recipient must develop and implement a plan to provide written materials in languages other than English where a significant number or percentage of the population likely to be directly affected by the program needs services or information in a language other than English to communicate effectively. NASA can provide technical assistance to recipients in assessing the need for written translation of documents and vital information contained in larger documents on a case by case basis. Large documents, such as handbooks, may not need to be translated or may not need to be translated in their entirety. For example, a recipient may be required to provide written translations of vital information contained in larger documents, but may not have to translate the entire document, to meet its obligations under Title VI.

8. Q. May a recipient require a LEP person to use a family member or a friend as his or her interpreter?

A. No. The recipient is expected to inform the LEP person of the right to receive free interpreter services first and permit the use of family and friends only after such offer of assistance has been declined.

9. Q. How does blindness and deafness among the LEP population affect the obligations of Federal fund recipients?

A. Section 504 of the Rehabilitation Act of 1973, as amended, requires that recipients provide sign language and oral interpreters for people who have hearing impairments and provide materials in alternative formats such as in large print, Braille, or on tape for individuals with visual disabilities. A recipient is expected to provide the same assistance and/or services to members of the LEP population in the particular LEP group's primary language.

10. Q. Can NASA provide help to recipients who wish to come into compliance with Title VI?

A. Yes. NASA OEOP staff at Headquarters and Equal Opportunity (EO) Officers at all NASA Centers are prepared to work with recipients to help them meet their obligations under Title VI. As part of its technical assistance services, NASA can help identify best practices and successful strategies used by other federal fund recipients, identify sources of federal reimbursement for translation services, and point recipients to other resources.

11. Q. How will NASA enforce compliance by recipients with the LEP requirements of Title VI?

A. NASA will enforce Title VI as it applies to recipients through the procedures provided for in the Title VI regulations (14 CFR Part 1250). Title VI regulations provide that NASA will investigate whenever it receives a complaint, report, or other information that alleges or indicates possible noncompliance with Title VI. If the investigation results in a finding of compliance, NASA will inform the recipient in writing of this determination, including the basis for the determination. If the investigation results in a finding of noncompliance, NASA must inform the recipient of the noncompliance in writing. By regulation, NASA must attempt to secure voluntary compliance through informal means. If the matter cannot be resolved informally, NASA must secure compliance through (a) the termination of Federal assistance after the recipient has been given an opportunity for an administrative hearing, (b) referral to DOJ for injunctive relief or other enforcement proceedings, or (c) any other means authorized by law.

12. Q. Does issuing this guidance mean that NASA will be changing how it enforces compliance with Title VI?

A. No. How NASA enforces Title VI is governed by the Title VI implementing regulations at 14 CFR 1250. The methods and procedures used to investigate and resolve complaints, and conduct compliance reviews, have not changed.

Dated: March 12, 2001.
George E. Reese,
Associate Administrator for Equal Opportunity Programs.

[FR Doc. 01-6500 Filed 3-14-01; 8:45 am]

BILLING CODE 7510-01-U